DEPARTMENT OF TRANSPORTATION

Federal Aviation Administration

Notice of Intent To Rule on Change in Use of Aeronautical Property at Louisville International Airport, Louisville, Kentucky

AGENCY: Federal Aviation Administration (FAA), DOT.

ACTION: Request for Public Comment.

SUMMARY: The Federal Aviation Administration (FAA) is requesting public comment on a request by the Louisville Regional Airport Authority of Louisville, Kentucky, owner of the Louisville International Airport, to change a portion of airport property from aeronautical to non-aeronautical use at the Louisville International Airport. The request consists of approximately 0.91 acres to the Commonwealth of Kentucky for use as right-of-way for the relocated portion of Grade Lane. This action is taken under the provisions of Section 125 of the Wendell H. Ford Aviation Investment Reform Act for the 21st Century (AIR 21).

DATES: Comments must be received on or before August 7, 2015.

ADDRESSES: Documents are available for review at the Louisville Regional Airport Authority, 700 Administration Drive, Louisville, KY 40209; and the FAA Memphis Airports District Office, 2600 Thousand Oaks Boulevard, Suite 2250, Memphis, TN 38118-2482. Written comments on the Sponsor's request must be delivered or mailed to: Mr. Tommy L. Dupree, Assistant Manager, Memphis Airports District Office, 2600 Thousand Oaks Boulevard, Suite 2250, Memphis, TN 38118-2482.

In addition, a copy of any comments submitted to the FAA must be mailed or delivered to Mr. Charles T. Miller, Executive Director, Louisville Regional Airport Authority, P.O. Box 9129, Louisville, KY 40209.

FOR FURTHER INFORMATION CONTACT: Mr. Stephen Wilson, Community Planner, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for non-aeronautical purposes at Louisville International Airport, Louisville, KY 40209 under the provisions of AIR 21 (49 U.S.C. 47107(h)(2)).

On July 1, 2015, the FAA determined that the request to release property for non-aeronautical purposes at Louisville International Airport meets the procedural requirements of the agency. The FAA may approve the request, in whole or in part, no later than August 7, 2015.

The following is a brief overview of the request:

The Louisville Regional Airport Authority is proposing the release of approximately 0.91 acres to the Commonwealth of Kentucky for use as right-of-way for the relocated portion of Grade Lane. In turn, allowing U.S. Department of Homeland Security to enhance security for the KYANG base at the airport. This property is located along the existing airport eastern property line extending approximately 1,400 feet along I-65.

Any person may inspect, by appointment, the request in person at the FAA office listed above under FOR FURTHER INFORMATION CONTACT.

Issued in Memphis, TN, on July 1, 2015.
Tommy L. Dupree,
Assistant Manager, Memphis Airports District Office, Southern Region.

[FR Doc. 2015-16716 Filed 7-7-15; 8:45 am]

BILLING CODE 4910-13-P